DEPARTMENT OF TRANSPORTATION

Federal Aviation Administration

14 CFR Part 71

[Docket No. FAA-2016-3193; Airspace Docket No. 15-AAL-3]

RIN 2120-AA66

Amendment of VOR Federal Airway V-506; Kotzebue, AK

AGENCY: Federal Aviation Administration (FAA), DOT.

ACTION: Final rule.

SUMMARY: This action amends Alaskan VHF Omnidirectional Range (VOR) Federal airway V-506 by lowering the floor of class E controlled airspace due to the establishment of a lower global navigation satellite system (GNSS) Minimum Enroute Altitude (MEA). This action allows for maximum use of the airspace within the National Airspace System in Alaska.

DATES: Effective date 0901 UTC, March 2, 2017. The Director of the Federal Register approves this incorporation by reference action under title 1, Code of Federal Regulations, part 51, subject to the annual revision of FAA, Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in Alaska to maintain the efficient flow of air traffic.

History

On March 7, 2016, the FAA published in the Federal Register a notice of proposed rulemaking (NPRM) (81 FR 11694), Docket No. FAA-2016-3193, to amend VOR Federal airway V-506 by lowering the floor of Class E controlled airspace due to the establishment of a lower GNSS MEA on a segment of the route. Interested parties were invited to participate in this rulemaking effort by submitting written comments on the proposal. One comment was received.

Discussion of Comment

The comment received generally asked whether there would be any safety issues by lowering the floor of Class E airspace?

The FAA finds the proposed modification is in accordance with the criteria and guidelines in FAA Order 7400.2, and it does not introduce new or increased safety risk into the National Airspace System, including Visual Flight Rules (VFR) operations and Instrument Flight Rules (IFR) operations.

For VFR operations, the modified Class G (uncontrolled) airspace stratum would extend upward from the surface to 7,499 feet mean sea level (MSL). The maximum terrain and obstruction elevation in this area is 5,300 feet MSL. The depth of the Glass G airspace stratum will therefore remain at least 2,199 feet, which exceeds the minimum airspace necessary for VFR cruise flight over non-congested areas in accordance with 14 CFR 91.119. It should also be noted, VFR flight is permitted within Class E airspace, with the only additional or different requirement (from Class G airspace) being increased cloud clearance and visibility minima.

Additionally, no safety issues or increased risk would be introduced for IFR operations. The airspace modification would lower the floor of Class E (controlled) airspace along the specific portion of V-506 from 9,500 feet MSL to 7,500 feet MSL. This action would lower the minimum altitude for air traffic control services and accommodate the minimum GNSS (MEA) for the airway of 8,000 feet MSL, while maintaining a 500 foot airspace buffer between IFR aircraft and uncontrolled airspace. The airway would provide a buffer of greater than 2,000 feet between IFR aircraft and the maximum terrain and obstacle elevation. Lastly it would provide IFR aircraft experiencing icing conditions the ability to fly 2,000 feet lower than previously allowed, and remain within controlled airspace.

Alaskan VOR Federal Airways are published in paragraph 6010(b) of FAA Order 7400.11A dated August 3, 2016, and effective September 15, 2016, which is incorporated by reference in 14 CFR 71.1. The Alaskan VOR Federal airways listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

The FAA is amending Title 14, Code of Federal Regulations (14 CFR) part 71 to modify VOR Federal airwayV-506 in the vicinity of Kotzebue, AK, due to the establishment of a lower GNSS Minimum Enroute Altitude. The route modifications are outlined below.

V-506: V-506 extends from the intersection of Kodiak, AK, VOR/DME 107° radial and the Anchorage Oceanic CTA/FIR boundary to the Barrow, AK, VOR/DME. A portion of the route segment between the Hotham, AK, NDB and the Barrow, AK, VOR/DME is amended to a lower MEA from 95 MSL to 75 MSL.

All radials in the regulatory text route descriptions below are stated in True degrees.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending Alaskan VHF Omnidirectional Range (VOR) Federal airway V-506 by lowering the floor of class E controlled airspace due to the establishment of a lower global navigation satellite system (GNSS) Minimum Enroute Altitude (MEA) qualifies for categorical exclusion under the National Environmental Policy Act, its implementing regulations at 40 CFR part 1500, and in accordance with FAA Order 1050.1F. Environmental Impacts: Policies and Procedures, Paragraph 5-6.5a which categorically excludes from further environmental review Rulemaking actions that designate or modify classes of airspace areas, airways, routes, and reporting points (see 14 CFR part 71, Designation of Class A, B, C, D, and E Airspace Areas; Air Traffic Service Routes; and Reporting Points). This action is not expected to cause any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 is amended to read as follows:

Authority: 49 U.S.C. 106(f), 106(g), 40103, 40113, 40120; E.O. 10854, 24 FR 9565, 3 CFR, 1959-1963 Comp., p.389

§ 71.1 [Amended]

2. The incorporation by reference in 14 CFR 71.1 of FAA Order 7400.11A, Airspace Designations and Reporting Points, dated August 3, 2016 and effective September 15, 2016, is amended as follows:

Paragraph 6010(b) Alaskan VOR Federal Airways

* * * * *

V-506 [Amended]

From INT Kodiak, AK, 107° radial and the Anchorage Oceanic CTA/FIR boundary, 37 miles 20 MSL, 24 miles 12 AGL, Kodiak; 50 miles 12 AGL, 50 miles 95 MSL, 51 miles 12 AGL, King Salmon, AK; 51 miles 12 AGL, 84 miles 70 MSL, 63 miles 12 AGL, Bethel, AK; Nome, AK; 35 miles 12 AGL, 71 miles 55 MSL, 53 miles 12 AGL, Kotzebue, AK; Hotham, AK, NDB; 69 miles 12 AGL, 124 miles 75 MSL, 98 miles 12 AGL, Barrow, AK.

* * * * *

Issued in Washington, DC, on January 3, 2017.
Gemechu Gelgelu,
Acting Manager, Airspace Policy Group.

[FR Doc. 2017-00077 Filed 1-9-17; 8:45 am]

BILLING CODE 4910-13-P